DEPARTMENT OF COMMERCE

National Oceanic and Atmospheric Administration

[RTID 0648-XD206]

Pacific Fishery Management Council; Public Meeting

AGENCY: National Marine Fisheries Service (NMFS), National Oceanic and Atmospheric Administration (NOAA), Commerce.

ACTION: Notice of public meeting.

SUMMARY: Pacific Fishery Management Council (Pacific Council) staff and Office of National Marine Sanctuaries (ONMS) staff will present a briefing on two September Pacific Council meeting agenda items, the Chumash Sanctuary Designation and the Coral Restoration and Research Plan, to interested Pacific Council members, advisory body members, and the public.

DATES: The online briefing will be held Thursday, August 24, 2023, from 2 p.m. to 4 p.m., Pacific Daylight Time, or until discussion is finished.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Jessi Doerpinghaus, Staff Officer, Pacific Council; telephone: (503) 820-2415 or Mr. Kerry Griffin, Staff Officer, Pacific Council; telephone: (503) 820-2409.

SUPPLEMENTARY INFORMATION: The Pacific Council will be considering two administrative items related to the ONMS at its September meeting. The first item, Chumash Sanctuary Designation, will focus on the proposed designation documents and regulations for the new Sanctuary, with particular focus on any proposed regulations that may affect fishing activities under the Council's jurisdiction. The second item is the consideration of new areas for coral research and restoration in the Gulf of Farallones and Monterey Bay National Marine Sanctuaries. The Council will begin scoping this item in September and will consider the areas that may be closed to fishing and to what fisheries the closures would apply. This presentation is aimed at a broad audience of Council members, advisory body members, and the public. Pacific Council and ONMS staff may follow up with more targeted discussions with advisory bodies during their September meetings will also brief the Council directly.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: August 3, 2023.
Diane M. DeJames-Daly,
Acting Deputy Director, Office of Sustainable Fisheries, National Marine Fisheries Service.

[FR Doc. 2023-17032 Filed 8-8-23; 8:45 am]

BILLING CODE 3510-22-P